DEPARTMENT OF COMMERCE

International Trade Administration

[A-570-194]

Active Anode Material From the People's Republic of China: Postponement of Preliminary Determination in the Less-Than-Fair-Value Investigation

AGENCY: Enforcement and Compliance, International Trade Administration, Department of Commerce.

DATES: Applicable May 8, 2025.

FOR FURTHER INFORMATION CONTACT: Hermes Pinilla, Office I, AD/CVD Operations, Enforcement and Compliance, International Trade Administration, U.S. Department of Commerce, 1401 Constitution Avenue NW, Washington, DC 20230; telephone: (202) 482-3477.

SUPPLEMENTARY INFORMATION:

Background

On January 7, 2025, the U.S. Department of Commerce (Commerce) initiated a less-than-fair-value (LTFV) investigation of imports of active anode material (active anodes) from China.¹ Currently, the preliminary determination is due no later than May 27, 2025.

¹ See Active Anode Material from the People's Republic of China: Initiation of Less-Than-Fair-Value Investigation, 90 FR 3792 (January 15, 2025) (Initiation Notice).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the American Active Anode Material Producers.

On April 28, 2025, the petitioner submitted a timely request that Commerce postpone the preliminary determination in the LTFV investigation.³ The petitioner stated that it request postponement because although the mandatory respondents have provided a response to Commerce's initial Section A questionnaire, the responses contain material deficiencies and omissions that currently prevent an accurate calculation of an antidumping duty margin.⁴ Further, responses to the other sections of the questionnaire have not yet been submitted and additional time will allow Commerce to issue supplemental questionnaires and ensure that the preliminary determination accurately reflects the dumping of each mandatory respondent.⁵

³ See Petitioner's Letter, “Request for Postponement of the Preliminary Determination,” dated April 28, 2025; see also, Petitioner's Letter, “Clarification of Request for Postponement of the Preliminary Determination,” dated April 29, 2025.

⁴ Id.

⁵ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than July 16, 2025. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: May 2, 2025.
Christopher Abbott,
Deputy Assistant Secretary for Policy and Negotiations, performing the non-exclusive functions and duties of the Assistant Secretary for Enforcement and Compliance.

[FR Doc. 2025-08088 Filed 5-7-25; 8:45 am]

BILLING CODE 3510-DS-P